FEDERAL COMMUNICATIONS COMMISSION

47 CFR Part 20

[WT Docket No. 07-250; FCC 08-68]

Amendment of the Commission's Rules Governing Hearing Aid-Compatible Mobile Handsets

AGENCY: Federal Communications Commission.

ACTION: Final rule; announcement of effective date.

SUMMARY: In this document, the Federal Communications Commission (FCC) announces the effectiveness of hearing aid compatibility requirements that have been approved by the Office of Management and Budget (OMB).

DATES: 47 CFR 20.19(h) and (i), published May 7, 2008 at 73 FR 25566, are effective December 13, 2011.

FOR FURTHER INFORMATION CONTACT: Contact Michael C. Smith, Federal Communications Commission, at (202) 418-0584 or via the Internet at MichaelC.Smith@fcc.gov.

SUPPLEMENTARY INFORMATION: On July 2, 2008, the Commission received approval from OMB for a revision to public information collection 3060-0999, which relates to new and modified information collection requirements under §§ 20.19(h) and 20.19(i) of the Commission's hearing aid compatibility rules. The revision was necessitated by the adoption of reporting requirements applicable to manufacturers and service providers, as well as requirements that manufacturers and service providers post certain information on their Web sites regarding the hearing aid-compatible handsets they offer. As the Commission previously announced the OMB approval on July 21, 2008, 73 FR 42344, the above-referenced rule sections are effective.

Federal Communications Commission.
Marlene H. Dortch,
Secretary.

[FR Doc. 2011-31988 Filed 12-12-11; 8:45 am]

BILLING CODE 6712-01-P